SECURITIES AND EXCHANGE COMMISSION

[File No. 500-1]

In the Matter of Innovative Software Technologies, Inc., National Health Partners, Inc., The Laguna Group, Inc. (a/k/a Eco Energy Pumps, Inc.), and TYIN Group Holdings Limited; Order of Suspension of Trading

February 20, 2015.

It appears to the Securities and Exchange Commission that there is a lack of current and accurate information concerning the securities of Innovative Software Technologies, Inc. because it has not filed any periodic reports since the period ended March 31, 2010.

It appears to the Securities and Exchange Commission that there is a lack of current and accurate information concerning the securities of National Health Partners, Inc. because it has not filed any periodic reports since the period ended September 30, 2012.

It appears to the Securities and Exchange Commission that there is a lack of current and accurate information concerning the securities of The Laguna Group, Inc. (a/k/a Eco Energy Pumps, Inc.) because it has not filed any periodic reports since the period ended April 30, 2011.

It appears to the Securities and Exchange Commission that there is a lack of current and accurate information concerning the securities of TYIN Group Holdings Limited because it has not filed any periodic reports since the period ended December 31, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 20, 2015, through 11:59 p.m. EST on March 5, 2015.

By the Commission.
Jill M. Peterson,
Assistant Secretary.

[FR Doc. 2015-03872 Filed 2-24-15; 8:45 am]

BILLING CODE 8011-01-P